DEPARTMENT OF AGRICULTURE

Request for Reinstatement of a Previously Approved Information Collection

AGENCY: Commodity Credit Corporation.

ACTION: Notice of request for comment.

SUMMARY: In accordance with the Paperwork Reduction Act of 1995, this notice announces the intention of the Farm Service Agency (FSA) to request for reinstatement of the information collection previously approved for the Sugar Program.

DATES: Comments on this notice must be received on or before July 22, 2002 to be assured consideration.

FOR FURTHER INFORMATION CONTACT: Danielle Cooke, USDA/Farm Service Agency, 1400 Independence Avenue, SW, STOP 0512; Washington, DC 20550-0512, telephone number (202) 720-1919. Comments may also be submitted by e-mail to: Danielle Cooke@wdc.usda.gov.

SUPPLEMENTARY INFORMATION:

Title: Sugar Program, 7 CFR Part 1435.

OMB Control Number: 0560-0093.

Type of Request: Reinstatement of a Previously Approved Information Collection.

Abstract: The Secretary of Agriculture is authorized to make price support through the Commodity Credit Corporation (CCC) by eligible sugar processors or refiners on behalf of the grower delivering eligible sugar to them. Sugar loans provide eligible processors with interim financing on their inventory, facilitate the orderly distribution of sugar throughout the year, and provide a market floor through the set loan rate. Instead of selling the crop immediately at harvest, a loan allows a processor to store the production, pledging the crop itself as collateral.

Respondents: Sugar beet and Sugar Cane Processors.

Estimated Number of Respondents: 43.

Estimated Number of Responses per Respondent: 2.

Estimated Total Annual Burden on Respondents: 58 hours.

Proposed topics for comment include: (a) Whether the collection of information is necessary for the proper performance of the functions of the agency, including whether the information will have practical utility and protect the interests of CCC and the producer; (b) the accuracy of the agency's estimate of burden including the validity of the methodology and assumptions used; (c) ways to enhance the quality, utility, and clarity of the information collected; or (d) ways to minimize the burden of the collection of the information on those who respond, including the use of appropriated automated, electronic, mechanical, or techniques or other forms of information technology.

Comments should be sent to the Desk Officer for Agriculture, Office of Information and Regulatory Affairs, Office of Management and Budget, Washington, DC 20503 and to Danielle Cooke, USDA/Farm Service Agency, 1400 Independence Avenue, SW, STOP 0512; Washington, DC 20250-0512, telephone number (202) 720-1919. All responses to this notice will be summarized and included in the request for OMB approval. All comments will become a matter of public record.

Signed at Washington, DC on May 14, 2002.
James R. Little,
Executive Vice President, Commodity Credit Corporation.

[FR Doc. 02-12640 Filed 5-20-02; 8:45 am]

BILLING CODE 3410-05-M